DEPARTMENT OF THE INTERIOR

Bureau of Land Management

[BLM_AZ_FRN_MO4500173980, AZAZ105857840]

Public Land Order No. 7938; Withdrawal of Public Land for Land Management Evaluation Purposes, Arizona

AGENCY: Bureau of Land Management, Interior.

ACTION: Public Land Order.

SUMMARY: This order withdraws 20,982.981 acres of public land from settlement, sale, location, or entry under the public land laws, including location and entry under the United States mining laws, and from leasing under the mineral and geothermal leasing laws; and 800 acres of Federal surface lands from settlement, sale, location, or entry under the public land laws, for 5 years for land management evaluation purposes, subject to valid existing rights. The withdrawn land is located in La Paz and Yuma Counties, Arizona.

DATES: This Public Land Order takes effect on March 27, 2024.

FOR FURTHER INFORMATION CONTACT: Michael Ouellett, Realty Specialist, BLM Arizona State Office 1 North Central Avenue, Suite 800 Phoenix, AZ 85004, telephone: (602) 417-9561, email at mouellett@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The purpose of this withdrawal is to maintain the current environmental baseline, subject to valid existing rights, to allow the Bureau of Land Management and the Department of the Army time to complete land management evaluations. The evaluation of the lands identified as the Highway 95 Addition is for a potential legislative withdrawal for support of the Yuma Proving Ground, pending processing of the Army's application (87 FR 19526) for withdrawal of public lands for defense purposes under the Engle Act.

Order

By virtue of the authority vested in the Secretary of the Interior by Section 204 of the Federal Land Policy and Management Act of 1976, 43 U.S.C. 1714, it is ordered as follows:

1. Subject to valid existing rights, the following described public lands are hereby withdrawn from settlement, sale, location, or entry under the public land laws, including location and entry under the United States mining laws, and from leasing under the mineral and geothermal leasing laws, to maintain current environmental baseline conditions.

Gila and Salt River Meridian, Arizona

T. 1 N., R. 19 W.,

Sec. 4, lots 2 thru 4, lots 6, 7, 9, and 10, SW¼NE¼, S½NW¼, SW¼, and W½SE¼;

Secs. 5 and 8;

Sec. 9, lots 2, 3, 5, and 6, W½NE¼, W½, and W½SE¼;

Secs. 17 and 20;

Sec. 21, lots 2, 3, 5, and 6, W½NE¼, W½, and W½SE¼;

Sec. 28, lots 2, 3, 5, and 6, W½NE¼, W½, and W½SE¼;

Sec. 29;

Sec. 33, lots 2, 3, 5, and 6, W½NE¼, W½, and W½SE¼.

T. 2 N., R. 19 W.,

Sec. 33, lot 1, S½SW¼, and SW¼SE¼.

T. 1 S., R. 19 W.,

Secs. 4 thru 9 and secs. 16 thru 21;

Sec. 28, lot 1, N½, SW¼, N½SE¼, and SW¼SE¼;

Secs. 29 thru 32;

Sec. 33, lots 2, 3, 6 and 7, NW¼NE¼, NW¼, NE¼SW¼, and W½SW¼.

T. 2 S., R. 19 W.,

Sec. 4, lots 4, 6, 7, and 10;

Secs. 5 thru 7;

Sec. 8, lots 1, 2, 5, 7, 9, 12, W½NE¼, W½, NW¼NW¼SE¼, W½SW¼NW¼SE¼, and SE¼SW¼NW¼SE¼;

Sec. 9, lot 2;

Sec. 17, lots 2, 3, 4, 7, and W½NW¼;

Sec. 18;

Sec. 19, lots 1 thru 4, NW¼NE¼, and E½NW¼;

Sec. 30, lot 1.

The area described contains 20,982.981 acres, according to the official plats of the surveys of the said land, on file with the BLM.

2. Subject to valid existing rights, the following described Federal surface lands are hereby withdrawn from settlement, sale, location, or entry under the public land laws, to maintain current environmental baseline conditions:

Gila and Salt River Meridian, Arizona

T. 1 N., R. 19 W.,

Sec. 32.

T. 2 N., R. 19 W.,

Sec. 32, S½SW½ and S½SE½.

The areas described aggregate 800 acres, according to the official plats of the surveys of the said lands, on file with the BLM.

3. This withdrawal will expire 5 years from the effective date of this order, unless, as a result of a review conducted pursuant to Section 204(f) of the Federal Land Policy and Management Act of 1976, 43 U.S.C. 1714(f), the Secretary determines that the withdrawal shall be extended.

(Authority: 43 U.S.C. 1714)

Robert T. Anderson,
Solicitor.

[FR Doc. 2024-06483 Filed 3-26-24; 8:45 am]

BILLING CODE 4331-12-P